OVERSEAS PRIVATE INVESTMENT CORPORATION

Submission for OMB Review; Comments Request

AGENCY: Overseas Private Investment Corporation (OPIC).

ACTION: Notice and request for comments.

SUMMARY: Under the provisions of the Paperwork Reduction Act (44 U.S.C. chapter 35), agencies are required to publish a Notice in the Federal Register notifying the public that the agency is submitting an existing collection in use without an OMB control number for OMB review and approval and requests public review and comment on the submission. Comments are being solicited on the need for the information; the accuracy of OPIC's burden estimate; the quality, practical utility, and clarity of the information to be collected; and ways to minimize reporting the burden, including automated collected techniques and uses of other forms of technology.

DATES: Comments must be received within sixty (60) calendar days of publication of this Notice.

ADDRESSES: Mail all comments and requests for copies of the subject form to OPIC's Agency Submitting Officer: James Bobbitt, Overseas Private Investment Corporation, 1100 New York Avenue NW., Washington, DC 20527. See SUPPLEMENTARY INFORMATION for other information about filing.

FOR FURTHER INFORMATION CONTACT: OPIC Agency Submitting Officer: James Bobbitt, (202)336-8558.

SUPPLEMENTARY INFORMATION: All mailed comments and requests for copies of the subject form should include form number OPIC-257 on both the envelope and in the subject line of the letter. Electronic comments and requests for copies of the subject form may be sent to James.Bobbitt@opic.gov, subject line OPIC-257.

Summary Form Under Review

Type of Request: Approval for existing collection in use without an OMB control number.

Title: Enterprise Development Network Project Information Questionnaire.

Form Number: OPIC-257

Frequency of Use: Once per applicant per project. The form is used to generate online sales leads. It is completed by the applicant and the information collected is routed to OPIC-affiliated Loan Originators. Applicants may make multiple submissions of the same project information, but the overwhelming majority submit once per applicant per project.

Type of Respondents: Business or other institutions; individuals.

Standard Industrial Classification Codes: All.

Description of Affected Public: Companies or citizens investing overseas.

Reporting Hours: 16 hours (5 minutes per form).

Number of Responses: 192 per year.

Federal Cost: $0. Automated leads are generated and sent to OPIC Affiliates for review, prequalification and action.

Authority for Information Collection: Sections 231; 234(b); and 234(c) of the Foreign Assistance Act of 1961, as amended.

Abstract (Needs and Uses): The Project Information Questionnaire is the principal document used by OPIC's Enterprise Development Network (EDN) to collect project and contact information. These leads are routed to a network of approved Loan Originators. After review, Loan Originators can contact the project sponsors and offer assistance in the preparation and submission of OPIC loan applications.

Dated: July 17, 2015.
Nichole Skoyles,
Administrative Counsel, Department of Legal Affairs.

[FR Doc. 2015-17908 Filed 7-21-15; 8:45 am]

BILLING CODE 3210-01-P